DEPARTMENT OF EDUCATION

Notice of Proposed Information Collection Requests

AGENCY: Department of Education.

ACTION: Notice of proposed information collection requests.

SUMMARY: The Leader, Regulatory Information Management, Office of the Chief Information Officer, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by April 8, 2002.

ADDRESSES: Written comments regarding the emergency review should be addressed to the Office of Information and Regulatory Affairs, Attention: Lauren Wittenberg, Desk Officer: Department of Education, Office of Management and Budget; 725 17th Street, NW, Room 10235, New Executive Office Building, Washington, DC 20503 or electronically mailed to Internet address Lauren.Wittenberg@omb.eop.gov or faxed to (202) 395-6974.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Leader, Regulatory Information Management, Office of the Chief Information Officer, publishes this notice containing proposed information collection requests at the beginning of the Departmental review of the information collection. Each proposed information collection, grouped by office, contains the following: (1) Type of review requested, e.g., new, revision, extension, existing or reinstatement; (2) title; (3) summary of the collection; (4) description of the need for, and proposed use of, the information; (5) respondents and frequency of collection; and (6) reporting and/or recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: March 13, 2002.
John Tressler,
Leader, Regulatory Information Management, Office of the Chief Information Officer.

Office of Elementary and Secondary Education

Type of Review: New.

Title: State Plan Application for the McKinney-Vento Homeless Assistance Act.

Abstract: State Education Agencies will submit information for a single State application to the Department to be able to receive formula grant funds under Title X Part C of the No Child Left Behind Act of 2001 (NCLB). The purpose of the Education for Homeless Children and Youth Program is to improve the educational outcomes for children and youth in homeless situations. The statues for this program are designed to ensure all homeless children and youth have equal access to public school education and for States and local educational agencies (LEAs) to review and revise policies and regulations to remove barriers to enrolling, attendance and academic achievement.

Additional Information: The Department of Education requests emergency clearance due to an unanticipated event in the signing of the law. This delay required the Office of Elementary and Secondary Education (OESE) to take time to review the statutes and determine what programs, as required by law, should be reviewed under a consolidated State application and what programs should be under a single State plan application. The McKinney-Vento Homeless Assistance Act was not required to be included in the consolidated plan application packet and OESE determined that it would be best to require States to submit a separate application plan. On March 6, 2002, the Department published in the Federal Register (Vol. 67, No. 44) a notice for the OESE consolidated applications with an anticipated date of May 28, 2002 for States to submit applications. This would necessitate mailing applications to States no later than mid-April, 2002. Without emergency processing, States will not have sufficient time to submit the requested single State application by the end of May and would face a hardship if they must wait to implement the required provisions of the NCLB legislation identified in this single State plan document.

Frequency: One time.

Affected Public: State, Local, or Tribal Gov't, SEAs or LEAs.

Reporting and Recordkeeping Hour Burden: Responses: 54.

Burden Hours: 1,080.

Requests for copies of the proposed information collection request should be directed to Vivian Reese, Department of Education, 400 Maryland Avenue, SW., Room 4050, Regional Office Building 3, Washington, DC 20202-4651, vivian.reese@ed.gov, or should be electronically mailed to the Internet address OCIO_RIMG@ed.gov, or should be faxed to 202-708-9346.

Comments regarding burden and/or the collection activity requirements, contact Kathy Axt at (540) 776-7742 or via her Internet address Kathy.Axt@ed.gov. Individuals who use a telecommunications device for the deaf (TDD) may call the Federal Information Relay Service (FIRS) at 1-800-877-8339.

[FR Doc. 02-6490 Filed 3-15-02; 8:45 am]

BILLING CODE 4000-01-P